DEPARTMENT OF STATE

[Public Notice 5667]

Shipping Coordinating Committee Facilitation Meeting

The Shipping Coordinating Committee (SHC) will conduct an open meeting at 9:30 a.m. on Tuesday, March 6, 2007, in Room 1303 of the United States Coast Guard Headquarters building, 2100 Second Street SW., Washington, DC 20593-0001. The primary purpose of the meeting is to prepare for the thirty-fourth session of the Facilitation Committee (FAL 34) of the International Maritime Organization (IMO), to be held from March 26 to 30, 2007, at the International Coffee Organization Headquarters in London, England.

The primary matters for discussion for FAL 34 will include the following:

• General review and implementation of the Convention on Facilitation of International Maritime Traffic.

• Adoption of proposed amendments to the Annex to the Convention.

• Electronic means for the clearance of ships.

• Prevention and suppression of unlawful acts in port.

• Prevention and suppression of illicit trade, including drugs, WMD and people.

• Formalities connected with the arrival, stay and departure of persons.

• Facilitation aspects of other IMO forms and certificates.

• Securing and facilitation international trade.

• Ship/port interface.

• Technical co-operation sub-programme for facilitation.

• Application of the Committee's Guidelines.

Please note that hard copies of documents associated with FAL 34 will not be available at this meeting. Documents will be available in Adobe Acrobat format on CD-ROM. To request documents, please contact Mr. David Du Pont via e-mail at David.A.DuPont@uscg.mil or write to the address provided below.

Members of the public may attend this meeting up to the seating capacity of the room. Interested persons may seek information by writing to Mr. David Du Pont, Commandant (CG-3PSR), U.S. Coast Guard Headquarters, 2100 Second Street SW., Room 1400, Washington, DC 20593-0001 or by calling (202) 372-1497.

Dated: January 18, 2007.
Michael E. Tousley,
Executive Secretary, Shipping Coordinating Committee, Department of State.

[FR Doc. E7-998 Filed 1-23-07; 8:45 am]

BILLING CODE 4710-09-P